GENERAL SERVICES ADMINISTRATION

[OMB Control No. 3090-0235; Docket No. 2025-0001; Sequence No. 16]

Submission for OMB Review; General Services Administration Acquisition Regulation; Federal Supply Schedule Pricing Disclosures and Sales Reporting

AGENCY: Office of Acquisition Policy, General Services Administration (GSA).

ACTION: Notice; request for comments.

SUMMARY: Under the provisions of the Paperwork Reduction Act, the Regulatory Secretariat Division is submitting a request to the Office of Management and Budget (OMB) to review and approve an extension of a previously approved information collection requirement regarding OMB Control No. 3090-0235, Federal Supply Schedule Pricing Disclosures and Sales Reporting.

DATES: Submit comments on or before: January 16, 2026.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Thomas O'Linn, Procurement Analyst, General Services Acquisition Policy Division, GSA, 202-445-0390 or email gsarpolicy@gsa.gov.

SUPPLEMENTARY INFORMATION:

A. Purpose

This information collection is for GSA Federal Supply Schedules (FSS) offerors and contractors subject to certain pricing disclosures and sales reporting requirements (i.e. referred to as CSP/PRC requirements). CSP/PRC requirements are found within the basic version of General Services Administration Acquisition Regulation (GSAR) clause 552.238-80, Industrial Funding Fee and Sales Reporting and the basic version of GSAR clause 552.238-81, Price Reductions; GSAR section 515.408(b) and (c); GSAR clause 552.238-83 Examination of Records by GSA; GSAR clause 552.238-85, Contractor's Billing Responsibilities; and GSAR clause 552.238-120, Economic Price Adjustment—Federal Supply Schedule Contracts. This information collection does not apply to GSA FSS offerors and contractors subject to Transactional Data Reporting (TDR) requirements. The burden associated with TDR requirements is covered under information collection OMB control number 3090-0306, Transactional Data Reporting.

B. Annual Reporting Burden

The total estimated annual public cost burden and total estimated annual public burden hours for this information collection is estimated to be:

Year 1 | Year 2 | Year 3
$84,629,455 935,622 | $0 Cost 0 hours | $0 Cost 0 hours

These estimates are calculated by adding up the total estimated annual burden cost/hour for each of the GSAR clauses covered by this information collection. Additionally, these estimates take into account the following impacts:

1. During the renewal period of this information collection FSS offerors and contractors will no longer be subject to the aforementioned CSP/PRC requirements and instead will be covered by TDR requirements. The transition to TDR is based on Class Deviation CD-2025-13, Revised Transactional Data Reporting (TDR) Requirements for the Federal Supply Schedule (FSS) Program, which was issued on June 26, 2025. The class deviation (CD) amends the GSAR to remove CSP/PRC and make TDR requirements mandatory for the FSS program.

As a result of this CD—

a. The FSS solicitation will be amended to remove CSP/PRC requirements.

b. Existing FSS contractors will need to transition to TDR. GSA anticipates the transition to be completed by the end of Year 1 of this renewal period.

2. Alternate I of GSAR clause 552.216-70, Economic Price Adjustment—FSS Multiple Award Schedule Contract, was replaced by GSAR clause 552.238-120, Economic Price Adjustment—Federal Supply Schedule Contracts. This new clause is less burdensome than the prior clause and provides more flexibility.

C. Public Comments

A 60-day notice was published in the Federal Register at 90 FR 47307 on October 1, 2025. No public comments were received.

Jeffrey A. Koses,
Senior Procurement Executive, Office of Acquisition Policy, Office of Government-wide Policy.

[FR Doc. 2025-23082 Filed 12-16-25; 8:45 am]

BILLING CODE 6820-61-P